DEPARTMENT OF TRANSPORTATION

Federal Highway Administration

Notice of Final Federal Agency Actions on Franklin Boulevard: I-5—McVay Highway. City of Springfield, Lane County, OR

AGENCY: Federal Highway Administration (FHWA), Department of Transportation (DOT).

ACTION: Notice of Limitations on Claims for Judicial Review of Actions by FHWA and other Federal agencies.

SUMMARY: This notice announces the final environmental action taken by the FHWA that is final within the meaning of 23 U.S.C. 139(l)(1). The action relates to a proposed highway project, Franklin Boulevard: I-5—McVay Highway in the City of Springfield, Lane County, Oregon. The final environmental action taken by FHWA grants approval for the project.

DATES: By this notice, FHWA is advising the public of the categorical exclusion as the final agency action on the Franklin Boulevard: I-5—McVay Highway project, subject to 23 U.S.C. 139(l)(1). A claim seeking judicial review of the Federal agency actions on the transportation project will be barred unless the claim is filed on or before May 19, 2017. If the Federal law that authorizes judicial review of a claim provides a time period of less than 150 days for filing such claim, then that shorter time period still applies.

FOR FURTHER INFORMATION CONTACT: Michelle Eraut, Program Development Team Leader, Federal Highway Administration, 530 Center Street NE., Suite 420, Salem, Oregon 97301, Telephone: (503) 316-2559, Email: Michelle.Eraut@dot.gov. The Franklin Boulevard: I-5—McVay Highway categorical exclusion is available upon written request from FHWA at the address shown above. Comments or questions concerning this proposed action and the Franklin Boulevard: I-5—McVay Highway project should be directed to FHWA at the address provided above.

SUPPLEMENTARY INFORMATION: Notice is hereby given that FHWA, has taken final agency action subject to 23 U.S.C. 139(l)(1) by issuing a categorical exclusion pursuant to the National Environmental Policy Act and approval for the following highway project in the State of Oregon: Franklin Boulevard: I-5—McVay Highway. The project will reconstruct Franklin Boulevard to reconfigure the existing five travel lanes to increase the accessibility of alternative modes of travel. The reconfiguration will include: roundabouts at four intersections; bus turn-out lanes and stops; a buffered bike lane in each direction that is adjacent and separated from the travel lanes; landscaped medians and stormwater treatment facilities; sidewalks, and local access lanes, which are short, single lane, single direction frontage roads separated from the main through lanes. The actions by the Federal agencies and the laws under which such actions were taken are described in the categorical exclusion issued on December 9, 2016. The categorical exclusion is available by contacting FHWA at the address provided above. This notice applies to all Federal agency decisions as of the issuance date of this notice and all laws under which such actions were taken, including but not limited to FHWA Oregon Division programmatic agreements and FHWA Oregon Division programmatic biological opinions, as well as:

1. General: National Environmental Policy Act (NEPA) [42 U.S.C. 4321-4347]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303]; Section 6(f) of the Land and Water Conservation Fund Act (LWCF) [16 U.S.C. 460l-4-460l-11.].

4. Wildlife: The Endangered Species Act [16 U.S.C. 1531-1544]; Fish and Wildlife Coordination Act [16 U.S.C. 661-667 (e)]; Migratory Bird Treaty Act [16 U.S.C. 703-712].

5. Historic and Cultural Resources: Section 106 of the National Historic Preservation Act of 1966, as amended [16 U.S.C. 470(f) et seq.]; Archeological Resources Protection Act of 1977 [16 U.S.C. 470aa-mm]; Archeological and Historic Preservation Act [16 U.S.C. 469-469(c)].

6. Social and Economic: Title VI of the Civil Rights Act of 1964 [42 U.S.C. 2000(d)-2000(d)(1)]; American Indian Religious Freedom Act [42 U.S.C. 1996].

7. Wetlands and Water Resources: Clean Water Act [33 U.S.C. 1251-1376]; Safe Drinking Water Act (SDWA) [42 U.S.C. 300(f)-300(j-26)];

8. Executive Orders: E.O. 12898, Federal Actions to Address Environmental Justice in Minority Populations and Low Income Populations; E.O. 11593 Protection and Enhancement of Cultural Resources; E.O. 13007 Indian Sacred Sites; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued On: December 9, 2016.
Phillip A. Ditzler,
Division Administrator.

[FR Doc. 2016-30293 Filed 12-19-16; 8:45 am]

BILLING CODE 4910-22-P